DEPARTMENT OF ENERGY

Federal Energy Regulatory Commission

Combined Notice of Filings #3

Take notice that the Commission received the following electric corporate filings:

Docket Numbers: EC14-143-000.

Applicants: Iberdrola Arizona Renewables, LLC, Dry Lake Wind Power II LLC.

Description: Joint Application for Order Authorizing Acquisition and Disposition of Jurisdictional Facilities Under Section 203 of the Federal Power Act Grand Iberdrola Arizona Renewables, LLC, et. al.

Filed Date: 9/12/14.

Accession Number: 20140912-5158.

Comments Due: 5 p.m. ET 10/3/14.

Take notice that the Commission received the following electric rate filings:

Docket Numbers: ER14-2864-000.

Applicants: PJM Interconnection, L.L.C.

Description: § 205(d) rate filing per 35.13(a)(2)(iii): Revisions to the OATT & OA re Incremental Multi-Driver Project to be effective 11/12/2014.

Filed Date: 9/12/14.

Accession Number: 20140912-5163.

Comments Due: 5 p.m. ET 10/3/14.

Docket Numbers: ER14-2865-000.

Applicants: Midcontinent Independent System Operator, Inc.

Description: § 205(d) rate filing per 35.13(a)(2)(iii): 2014-09-12 PRMR LCR Filing to be effective 11/11/2014..

Filed Date: 9/12/14.

Accession Number: 20140912-5169.

Comments Due: 5 p.m. ET 10/3/14.

Docket Numbers: ER14-2866-000.

Applicants: Louisville Gas and Electric Company.

Description: Compliance filing per 35: Filing to comply with Docket No. EL14_76_000 to be effective 1/1/2015.

Filed Date: 9/12/14.

Accession Number: 20140912-5178.

Comments Due: 5 p.m. ET 10/3/14.

Docket Numbers: ER14-2867-000.

Applicants: Baltimore Gas and Electric Company, PJM Interconnection, L.L.C.

Description: § 205(d) rate filing per 35.13(a)(2)(iii): PJM TOs revisions to OATT Schedule 12 regarding multi driver projects to be effective 11/12/2014.

Filed Date: 9/12/14.

Accession Number: 20140912-5179.

Comments Due: 5 p.m. ET 10/3/14.

Docket Numbers: ER14-2868-000.

Applicants: Portland General Electric Company.

Description: § 205(d) rate filing per 35.13(a)(2)(iii): 7th Amend Boardman Agreement to be effective 11/1/2014.

Filed Date: 9/12/14.

Accession Number: 20140912-5182.

Comments Due: 5 p.m. ET 10/3/14.

Take notice that the Commission received the following electric securities filings:

Docket Numbers: ES14-53-000.

Applicants: Kansas City Power & Light Company.

Description: Kansas City Power & Light Company Application for Authorization of Issuance of Short-Term Debt Securities Under Section 204 of the Federal Power Act.

Filed Date: 9/12/14.

Accession Number: 20140912-5154.

Comments Due: 5 p.m. ET 10/3/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 12, 2014.
Nathaniel J. Davis, Sr.,
Deputy Secretary.

[FR Doc. 2014-22391 Filed 9-18-14; 8:45 am]

BILLING CODE 6717-01-P